DEPARTMENT OF HEALTH AND HUMAN SERVICES

Health Resources and Services Administration

Health Center Program

AGENCY: Health Resources and Services Administration, HHS.

ACTION: Notice of Noncompetitive Replacement Award to Genesee Health System.

SUMMARY: The Health Resources and Services Administration (HRSA) will be transferring Health Center Program (section 330 of the Public Health Service Act) funds originally awarded to the County of Genesee to ensure the provision of critical primary health care services to underserved populations in Genesee County, Michigan.

SUPPLEMENTARY INFORMATION:

Former Grantee of Record: County of Genesee.

Original Period of Grant Support: June 1, 2012, to April 30, 2014.

Replacement Awardee: Genesee Health System.

Amount of Replacement Award: The original award to the County of Genesee was issued as a result of a New Access Point application. The County of Genesee and Genesee Health System have agreed that the funds to be transferred will be the remaining amount in the account as of the date of this transfer.

Period of Replacement Award: The period of support for the replacement award is May 1, 2013, to April 30, 2014.

Authority: Sections 330 of the Public Health Service Act, 42 U.S.C. 245b.

CFDA Number: 93.224.

Justification for the Exception to Competition: The former grantee, the County of Genesee, has requested that HRSA transfer a Health Center Program section 330 grant to Genesee Health System to implement and carry out grant activities originally proposed under the County of Genesee's funded section 330 grant application. Genesee County Community Mental Health (GCCMH)—now Genesee Health System—was formerly a department of the County of Genesee and has continued to carry out the operations of the grant program since its award in June 2012. On January 1, 2013, the State of Michigan approved GCCMH's independence as a separate public governmental entity, and GCCMH was legally renamed the Genesee Health System. The Genesee Health System is directly engaged in the delivery of primary health care services on the County of Genesee's behalf and has indicated an ability to continue operations without a disruption of services.

Genesee Health System is currently providing primary health care services on behalf of the County of Genesee to the original target population and is located in the same geographical area. This underserved target population has an immediate need for vital primary health care services and would be negatively impacted by any delay or disruption of services caused by a competition. As a result, in order to ensure that critical primary health care services remain available to the original target population without disruption, this replacement award will not be competed.

FOR FURTHER INFORMATION CONTACT: Kirsten Argueta, Senior Advisor, North Central Division, Bureau of Primary Health Care, Health Resources and Services Administration, 5600 Fishers Lane, Rockville, MD 20857, via email at KArgueta@hrsa.gov or (301) 594-1055.

Dated: April 19, 2013.
Mary K. Wakefield,
Administrator.

[FR Doc. 2013-09942 Filed 4-25-13; 8:45 am]

BILLING CODE 4165-15-P